DEPARTMENT OF COMMERCE

International Trade Administration

Notice of Amendment for Certain Upcoming 2021 Trade Missions

AGENCY: International Trade Administration, Department of Commerce.

ACTION: Notice.

SUMMARY: The United States Department of Commerce, International Trade Administration, is announcing amended dates and deadlines for submitting applications for several upcoming trade missions that were previously announced and published in the Federal Register.

SUPPLEMENTARY INFORMATION: Amendments to Revise Trade Mission Dates, and Deadline for Submitting Applications.

• Cybersecurity Business Development Mission to Peru, Chile, and Uruguay, with an optional stop in Argentina, scheduled for March 1-5, and 8, 2021, postponed to October 18-22, and 25, 2021.

• Cybersecurity Business Development Mission to India, scheduled for April 19-23, 2021, postponed to November 8-12, 2021.

• Trade Mission to the Caribbean Region in conjunction with the Trade Americas—Business Opportunities in the Caribbean Region Conference, scheduled from November 15-20, 2020, postponed to October 24-29, 2021.

• Education Trade Mission to India, scheduled for August 2-7, 2021, postponed to September 12-17, 2022.

• Asia EDGE (Enhancing Development and Growth through Energy) Business Development Mission to Indonesia and Vietnam, scheduled for March 17-26, 2021, postponed to September 16-24, 2021.

Background

Cybersecurity Business Development Mission to Peru, Chile, and Uruguay, With an Optional Stop in Argentina

The United States Department of Commerce, International Trade Administration, is amending the Notice published at 85 FR 45172 (July 27, 2020), regarding the dates of ITA's planned Cybersecurity Business Development Mission to Peru, Chile, and Uruguay, with an optional stop in Argentina, which have been modified from March 1-5, and 8, 2021, to October 18-22, and 25, 2021. The Department has been closely monitoring COVID-19 developments and believes postponing the mission is the best decision for the health, safety, and welfare of the participants. The new deadline for applications has been extended to Friday, July 9, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Sunday, October 17, 2021 | • Trade Mission Participants Arrive in Lima, Peru.
Monday, October 18, 2021 | • Welcome and Country Briefing (Peru).
| • Presentations and/or cabinet/ministry meetings.
| • Networking Lunch.
| • One-on-One business matchmaking appointments.
| • Networking Reception at Ambassador's residence (TBC).
Tuesday, October 19, 2021 | • Travel to Santiago, Chile.
| • Welcome and Country Briefing (Chile).
| • Presentations.
Wednesday, October 20, 2021 | • One-on-One business matchmaking appointments.
| • Networking Lunch.
| • Cabinet/ministry meetings.
| • Networking Reception at Ambassador's residence (TBC).
Thursday, October 21, 2021 | • (Morning) Travel to Montevideo, Uruguay.
| • (Afternoon)Welcome and briefing.
| • Presentations by Uruguayan government entities.
Friday, October 22, 2021 | • (Morning) Business matchmaking.
| • Closing Ambassador's reception (TBC).
| • (Afternoon) Trade mission participants depart for optional Argentina stop or return home.
Saturday-Sunday, October 23-24, 2021 | • Travel day or free time for Argentina optional stop participants.
Monday, October 25, 2021 (Optional) | • Welcome and Country Briefing (Argentina).
| • One-on-One business matchmaking appointments.

The U.S. Department of Commerce will review applications and make selection decisions on a rolling basis in accordance with the Notice published at 85 FR 12259 (March 10, 2020). The applicants selected will be notified as soon as possible.

Contacts

Paul Matino, Senior International Trade Specialist, Baltimore, MD—USEAC, 410-962-4539, Paul.Matino@trade.gov

Gemal Brangman, Senior Advisor, Trade Missions, Trade Events Task Force, Washington, DC, 202-482-3773, Gemal.Brangman@trade.gov

Peru

Leon Skarshinski, Commercial Officer, U.S. Embassy—Lima, Peru, Leon.Skarshinski@trade.gov

Chile

Joshua Leibowitz, Commercial Officer, U.S. Embassy—Santiago, Chile, Joshua.Leibowitz@trade.gov

Uruguay

Matthew Poole, Senior Commercial Officer, U.S. Embassy—Montevideo, Uruguay, Matthew.Poole@trade.gov

Argentina

Karen Ballard, Commercial Officer, U.S. Embassy—Santiago, Chile, Karen.Ballard@trade.gov

Cybersecurity Business Development Mission to India

The United States Department of Commerce, International Trade Administration, is amending the Notice published at 85 FR 12259 (March 10, 2020), regarding the dates of ITA's planned Cybersecurity Business Development Mission to India, which have been modified from April 19-23, 2021, to November 8-12, 2021. The Department has been closely monitoring COVID-19 developments and believes postponing the mission is the best decision for the health, safety, and welfare of the participants. The new deadline for applications has been extended to August 5, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Sunday, November 7, 2021 | • Trade Mission Participants Arrive in New Delhi.
Monday, November 8, 2021 | • Welcome and Country Briefing.
| • One-on-One business matchmaking appointments.
| • Networking Lunch (No-Host).
| • One-on-One business matchmaking appointments.
| • Networking Reception at Deputy Chief of Mission residence (To Be Confirmed (TBC)).
Tuesday, November 9, 2021 | • Breakfast roundtable with Indian industry groups and associations (TBC).
| • Cyber Security event to share best practices and promote participants.
| • Networking Lunch (No-Host).
| • Ministry and other Indian Government Briefings and Meetings.
| • Transportation from Hotel to Airport Included.
| • Travel to Mumbai.
Wednesday, November 10, 2021 | • Welcome Briefing, Mumbai and Maharashtra State.
| • One-on-One business matchmaking appointments.
| • Networking Lunch (No-Host).
| • One-on-One business matchmaking appointments.
| • Networking Reception at Consul General residence (TBC).
Thursday, November 11, 2021 | • Breakfast roundtable with Indian industry groups and associations (TBC).
| • Cyber Security event to share best practices and promote participants.
| • Networking Lunch (No-Host).
| • Indian Government Briefings and Meetings.
| • Travel to Airport (Not Included).
Friday, November 12, 2021 | • OPTIONAL STOP—Bangalore or Hyderabad.
| • One-on-One business matchmaking appointments.
| • Networking Lunch (No-Host).
| • One-on-One business matchmaking appointments.

The U.S. Department of Commerce will review applications and make selection decisions on a rolling basis in accordance with the Notice published at 85 FR 12259 (March 10, 2020). The applicants selected will be notified as soon as possible.

Contacts

Suzette Nickle, Senior International Trade Specialist, U.S. Commercial Service, Denver, CO, 303-844-5655, Suzette.Nickle@trade.gov

Gemal Brangman, Senior Advisor, Trade Missions, Trade Events Task Force, Washington, DC, 202-482-3773, Gemal.Brangman@trade.gov

Trade Mission to the Caribbean Region in Conjunction With the Trade Americas—Business Opportunities in the Caribbean Region Conference

The United States Department of Commerce, International Trade Administration, is amending the Notice published at 85 FR 29928 (May 19, 2020), regarding the dates of ITA's planned Trade Mission to the Caribbean Region in conjunction with the Trade Americas—Business Opportunities in the Caribbean Region Conference, which have been modified from November 15-20, 2020, to October 24-28, 2021. The Department has been closely monitoring COVID-19 developments and believes postponing the mission is the best decision for the health, safety and welfare of the participants. The new deadline for applications has been extended to May 28, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Saturday, October 23, 2021 | • Travel Day/Arrival in Barbados. Optional Local Tour/Activities.
Sunday, October 24, 2021 | • Barbados. Afternoon: Registration, Briefing and U.S. Embassy Officer Consultations. Evening: Networking Reception.
Monday, October 25, 2021 | • Barbados. Morning: Registration and Trade Americas—U.S.-Caribbean Business Conference. Afternoon: U.S. Embassy Officer Consultations. Evening: Networking Reception.
Optional
Tuesday, October 26, 2021 | • Barbados/Eastern Caribbean Region Business-to-Business Meetings or Travel day.
Tuesday-Thursday, October 26-28, 2021 | • Travel day or Business-to-Business Meetings in: Option (A) Dominican Republic. Option (B) Guyana. Option (C) Haiti. Option (D) Jamaica. Option (E) Suriname. Option (F) The Bahamas. Option (H) Trinidad & Tobago.

The U.S. Department of Commerce will review applications and make selection decisions on a rolling basis in accordance with the Notice published at 84 FR 68393 (December 16, 2019). The applicants selected will be notified as soon as possible.

Contacts

U.S. Trade Americas Team Contact Information

Delia Valdivia, Senior International Trade Specialist, U.S. Commercial Service—Los Angeles (West), CA, delia.valdivia@trade.gov, Tel: 310-597-8218

Diego Gattesco, Director, U.S. Commercial Service—Wheeling, WV, diego.gattesco@trade.gov, Tel: 304-243-5493

Education Trade Mission to India

The United States Department of Commerce, International Trade Administration, is amending the Notice published at 85 FR 56578 (September 14, 2020), regarding the dates of ITA's planned Education Trade Mission to India, which have been modified from August 2-7, 2021, to September 12-17, 2022. The Department has been closely monitoring COVID-19 developments and believes postponing the mission is the best decision for the health, safety, and welfare of the participants. The new deadline for applications has been extended to July 31, 2022. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

New Delhi
Monday, September 12, 2022 | • Travel Day/Arrival in New Delhi. Optional Local Tour/Activities.
| • New Delhi: Briefing, One-on-One matchmaking meetings; lunch hosted by TBD; Evening: Icebreaker Reception.
Tuesday, September 13, 2022 | • Half day site visit—or student fair, to be finalized; Late afternoon departure for Bengaluru.
Bengaluru
Wednesday, September 14, 2022 | • Travel Day/Arrival in Bengaluru. Optional Local Tour/Activities.
| • Bengaluru: Briefing, One-on-One matchmaking meetings; lunch hosted by TBD.
Thursday, September 15, 2022 | • Half day site visit—or student fair, to be finalized; Late afternoon departure for Mumbai.
Mumbai
Friday, September 16, 2022 | • Travel Day/Arrival in Mumbai. Optional Local Tour/Activities,
| • Mumbai: Briefing, One-on-One matchmaking meetings; lunch hosted by TBD. Student fair.
Saturday, September 17, 2022 | • Half day site visit—or partner event to be finalized; Evening Wheels-up.

The U.S. Department of Commerce will review applications and make selection decisions on a rolling basis in accordance with the Notice published at 85 FR 56578 (September 14, 2020). The applicants selected will be notified as soon as possible.

Contacts

U.S. Export Assistance Center

Gabriel Zelaya, Global Education Team Leader, U.S. Commercial Service—San Jose/Silicon Valley, U.S. Department of Commerce, gabriela.zelaya@trade.gov, Tel: 408-335-9202

India Contact Information

Brenda VanHorn, Principal Commercial Officer, U.S. Commercial Service—U.S. Consulate General, Mumbai, Brenda.Vanhorn@trade.gov

Noella Monteiro, Commercial Advisor, U.S. Commercial Service—U.S. Consulate General, Mumbai, Noella.Monteiro@trade.gov

Asia Edge (Enhancing Development and Growth Through Energy) Business Development Mission to Indonesia and Vietnam

The Department of Commerce, International Trade Administration (ITA), is amending the Notice published at 85 FR 54353 (September 1, 2020), regarding the dates of ITA's executive-led Asia EDGE Business Development Mission, which have been modified from March 17-26, 2021, to September 16-24, 2021. The Department has been closely monitoring COVID-19 developments and believes postponing the mission is necessary to ensure safety, health, and welfare of the participants. Mission stops will include Indonesia and Vietnam, with an optional stop in Thailand. The mission will highlight U.S. innovation and technology; spur U.S. industry, jobs, and competitiveness; promote U.S. exports of low-carbon energy resources and technologies; and encourage the development of sustainable, low-carbon energy policies in Southeast Asia.

The new deadline for applications has been extended to May 30, 2021. The Department of Commerce will accept additional applications for this mission and will select a total of 20 firms and/or trade associations, including both previously selected firms and new applicants in accordance with the Notice published at 85 FR 54353 (September 1, 2020). Once all slots have been filled, qualified applicants will be accepted on a waitlist basis. Firms and/or trade associations previously selected to participate in this mission will need to confirm their availability but need not reapply. The applicants selected will be notified as soon as possible.

The proposed schedule is updated as follows *:

* Note: The final schedule of meetings, events, and site visits will depend on the availability of host government and business officials, specific goals of mission participants, and flight availability and ground transportation options.

Wednesday, September 15, 2021 | • Travel to BANGKOK.
Thursday, September 16, 2021 | • Optional Spin Off Program Commences.
| • BANGKOK (Afternoon Sessions).
Friday, September 17, 2021 | • BANGKOK (Full Day Sessions)
Saturday-Sunday, September 18-19, 2021 | • Travel to JAKARTA.
Monday, September 20, 2021 | • Official Trade Mission Program Commences.
| • JAKARTA (Full Day Sessions).
Tuesday, September 21, 2021 | • JAKARTA (Morning Sessions).
| • Travel to HO CHI MINH CITY.
Wednesday, September 22, 2021 | • HO CHI MINH CITY (Full Day Sessions).
Thursday, September 23, 2021 | • Travel to HANOI.
| • HANOI (Evening Reception).
Friday, September 24, 2021 | • HANOI (Full Day Sessions).
| • Official Trade Mission Program Concludes.

Contact Information

John Breidenstine, Regional Senior Commercial Officer, U.S. Embassy Bangkok (Thailand), U.S. Department of Commerce, Phone: 66-2-205-5090, Email: john.breidenstine@trade.gov

Cathy Gibbons, Global Energy Team Lead, U.S. Commercial Service, Westchester (New York), U.S. Department of Commerce, Phone: 1-914-682-6712, Email: cathy.gibbons@trade.gov

Victoria Yue, International Trade Specialist, Office of Energy and Environmental Industries, U.S. Department of Commerce, Phone: 1-202-482-3492, Email: victoria.yue@trade.gov

Eric Hsu, Senior Commercial Officer, U.S. Embassy Hanoi (Vietnam), U.S. Department of Commerce, Phone: 84-24-3850-5070, Email: eric.hsu@trade.gov

David Nufrio, Deputy Director, Global Markets Asia, U.S. Department of Commerce, Phone: 1-202-482-5175, Email: david.nufrio@trade.gov

Paul Taylor, Commercial Officer, U.S. Embassy Jakarta (Indonesia), U.S. Department of Commerce, Phone: 62-815-1080-0475, Email: paul.taylor@trade.gov

Gemal Brangman,
Senior Advisor, Trade Missions, ITA Events Management Task Force.

[FR Doc. 2021-02022 Filed 1-29-21; 8:45 am]

BILLING CODE 3510-DR-P